FEDERAL HOUSING FINANCE BOARD

[No. 2005-N-01]

Federal Home Loan Bank Members Selected for Community Support Review

AGENCY: Federal Housing Finance Board.

ACTION: Notice.

SUMMARY: The Federal Housing Finance Board (Finance Board) is announcing the Federal Home Loan Bank (Bank) members it has selected for the 2004-05 fifth quarter review cycle under the Finance Board's community support requirements regulation. This notice also prescribes the deadline by which Bank members selected for review must submit Community Support Statements to the Finance Board.

DATES: Bank members selected for the fifth quarter review cycle under the Finance Board's community support requirements regulation must submit completed Community Support Statements to the Finance Board on or before May 26, 2005.

ADDRESSES: Bank members selected for the 2004-05 fifth quarter review cycle under the Finance Board's community support requirements regulation must submit completed Community Support Statements to the Finance Board either by regular mail at the Federal Housing Finance Board, Office of Supervision, Community Investment and Affordable Housing, 1777 F Street NW., Washington, DC 20006, or by electronic mail at FITZGERALDE@FHFB.GOV.

FOR FURTHER INFORMATION CONTACT: Emma J. Fitzgerald, Program Analyst, Office of Supervision, Community Investment and Affordable Housing, by telephone at 202-408-2874, by electronic mail at FITZGERALDE@FHFB.GOV, or by regular mail at the Federal Housing Finance Board, 1777 F Street NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the May 26, 2005 deadline prescribed in this notice. 12 CFR 944.2(b)(1)(ii) and (c). On or before April 28, 2005, each Bank will notify the members in its district that have been selected for the 2004-05 fifth quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2004-05 fifth quarter community support review cycle:

Federal Home Loan Bank of Boston—District 1
People's Bank | Bridgeport | Connecticut.
Farmington Savings Bank | Farmington | Connecticut.
Liberty Bank | Middletown | Connecticut.
Naugatuck Savings Bank | Naugatuck | Connecticut.
The Citizens National Bank | Putnam | Connecticut.
The Simsbury Bank and Trust Company | Simsbury | Connecticut.
Windsor Federal Savings and Loan Association | Windsor | Connecticut.
St. Croix Federal Credit Union | Baileyville | Maine.
UnitedKingfield Bank | Bangor | Maine.
Ocean Communities Federal Credit Union | Biddeford | Maine.
St. Joseph's Credit Union | Biddeford | Maine.
Gardiner Savings Institution, FSB | Gardiner | Maine.
Machias Savings Bank | Machias | Maine.
Katahdin Federal Credit Union | Millinocket | Maine.
Hanscom Federal Credit Union | Bedford | Massachusetts.
University Credit Union | Boston | Massachusetts.
Tremont Credit Union | Boston | Massachusetts.
HarborOne Credit Union | Brockton | Massachusetts.
Dedham Co-operative Bank | Dedham | Massachusetts.
Everett Credit Union | Everett | Massachusetts.
Workers' Credit Union | Fitchburg | Massachusetts.
Framingham Co-operative Bank | Framingham | Massachusetts.
Dean Cooperative Bank | Franklin | Massachusetts.
Benjamin Franklin Bank | Franklin | Massachusetts.
Greenfield Savings Bank | Greenfield | Massachusetts.
UMassFive College Federal Credit Union | Hadley | Massachusetts.
Economy Co-operative Bank | Merrimac | Massachusetts.
Mayflower Co-operative Bank | Middleboro | Massachusetts.
Millbury Federal Credit Union | Millbury | Massachusetts.
First Citizens' Federal Credit Union | New Bedford | Massachusetts.
North Shore Bank, A Co-Operative Bank | Peabody | Massachusetts.
Berkshire Bank | Pittsfield | Massachusetts.
The Pittsfield Cooperative Bank | Pittsfield | Massachusetts.
The Sharon Co-operative Bank | Sharon | Massachusetts.
Slade's Ferry Trust Company | Somerset | Massachusetts.
Central Cooperative Bank | Somerville | Massachusetts.
Savers Co-operative Bank | Southbridge | Massachusetts.
StonehamBank—A Co-operative Bank | Stoneham | Massachusetts.
The Martha's Vineyard Co-operative Bank | Vineyard Haven | Massachusetts.
Ware Co-operative Bank | Ware | Massachusetts.
Westfield Bank | Westfield | Massachusetts.
Winthrop Federal Credit Union | Winthrop | Massachusetts.
Connecticut River Bank N.A. | Charlestown | New Hampshire.
Claremont Savings Bank | Claremont | New Hampshire.
Triangle Credit Union | Nashua | New Hampshire.
Sugar River Savings Bank | Newport | New Hampshire.
Lake Sunapee Bank, FSB | Newport | New Hampshire.
Piscataqua Savings Bank | Portsmouth | New Hampshire.
Service Credit Union | Portsmouth | New Hampshire.
The Washington Trust Company | Westerly | Rhode Island.
The Bank of Bennington | Bennington | Vermont.
Factory Point National Bank | Manchester Center | Vermont.
Heritage Family Credit Union | Rutland | Vermont.
Passumpsic Savings Bank | St. Johnsbury | Vermont.
Federal Home Loan Bank of New York—District 2
American Savings Bank of NJ | Bloomfield | New Jersey.
Clifton Savings Bank, SLA | Clifton | New Jersey.
Sussex Bank | Franklin | New Jersey.
Ocwen Federal Bank FSB | Ft. Lee | New Jersey.
First Hope Bank, NA | Hope | New Jersey.
Magyar Savings Bank | New Brunswick | New Jersey.
Lusitania Savings Bank, FSB | Newark | New Jersey.
Roebling Bank | Roebling | New Jersey.
Monroe Savings Bank, SLA | Williamstown | New Jersey.
Franklin Savings Bank | Woodstown | New Jersey.
Ponce De Leon Federal Bank | Bronx | New York.
Community Capital Bank | Brooklyn | New York.
Atlantic Liberty Savings, FA | Brooklyn | New York.
Bank of Castile | Castile | New York.
Fulton Savings Bank | Fulton | New York.
Astoria Federal Savings & Loan Association | Lake Success | New York.
Pittsford Federal Credit Union | Mendon | New York.
First Federal Savings of Middletown | Middletown | New York.
United Orient Bank | New York | New York.
Amalgamated Bank | New York | New York.
Northfield Savings Bank | Staten Island | New York.
Empire Federal Credit Union | Syracuse | New York.
Federal Home Loan Bank of Pittsburg—District 3
Wilmington Savings Fund Society, FSB | Wilmington | Delaware.
Citicorp Trust Bank, FSB | Baltimore | Maryland.
C & G Savings Bank | Altoona | Pennsylvania.
Ambler Savings Bank | Ambler | Pennsylvania.
First Star Savings Bank | Bethlehem | Pennsylvania.
First FS&LA of Bucks County | Bristol | Pennsylvania.
Alliance Bank | Broomall | Pennsylvania.
Sharon Savings Bank | Darby | Pennsylvania.
ESB Bank | Ellwood City | Pennsylvania.
County Savings Bank | Essington | Pennsylvania.
Bank of Hanover and Trust Company | Hanover | Pennsylvania.
Hatboro Federal Savings | Hatboro | Pennsylvania.
Fox Chase Bank | Hatboro | Pennsylvania.
First Federal Bank | Hazleton | Pennsylvania.
William Penn Savings and Loan Association | Levittown | Pennsylvania.
Willow Grove Bank | Maple Glen | Pennsylvania.
First Keystone Federal Savings Bank | Media | Pennsylvania.
Morton Savings Bank | Morton | Pennsylvania.
Nesquehoning Savings Bank | Nesquehoning | Pennsylvania.
Third Federal Savings Bank | Newtown | Pennsylvania.
Malvern Federal Savings Bank | Paoli | Pennsylvania.
First Savings Bank of Perkasie | Perkasie | Pennsylvania.
Washington Savings Association | Philadelphia | Pennsylvania.
Second FS&LA of Philadelphia | Philadelphia | Pennsylvania.
Asian Bank | Philadelphia | Pennsylvania.
Pennsylvania Business Bank | Philadelphia | Pennsylvania.
Progressive Home FS&LA | Pittsburgh | Pennsylvania.
National City Bank of Pennsylvania | Pittsburgh | Pennsylvania.
The Quakertown National Bank | Quakertown | Pennsylvania.
Mercer County State Bank | Sandy Lake | Pennsylvania.
Penn Security Bank and Trust Company | Scranton | Pennsylvania.
North Penn Savings & Loan Association | Scranton | Pennsylvania.
Slovenian S&LA of Canonsburg, Pa | Strabane | Pennsylvania.
First National Bank of Chester County | West Chester | Pennsylvania.
Stonebridge Bank | West Chester | Pennsylvania.
First Century Bank, N.A | Bluefield | West Virginia.
Pioneer Community Bank | Iaeger | West Virginia.
Bank of Mount Hope, Inc | Mount Hope | West Virginia.
Community Bank of Parkersburg | Parkersburg | West Virginia.
First National Bank | Spencer | West Virginia.
Pleasants County Bank | St. Marys | West Virginia.
The Poca Valley Bank, Inc | Walton | West Virginia.
Federal Home Loan Bank of Atlanta—District 4
Covington County Bank | Andalusia | Alabama.
United Bank | Atmore | Alabama.
AmSouth Bank | Birmingham | Alabama.
Community Bank | Blountsville | Alabama.
Peoples Community Bank | Columbia | Alabama.
Cullman Savings Bank | Cullman | Alabama.
Peoples Bank of North Alabama | Cullman | Alabama.
First American Bank | Decatur | Alabama.
The Citizens Bank | Enterprise | Alabama.
Bank Trust of Alabama | Eufala | Alabama.
EvaBank | Eva | Alabama.
First Gulf Bank | Gulf Shores | Alabama.
New South Federal Savings Bank | Irondale | Alabama.
Merchants Bank | Jackson | Alabama.
Farmers and Merchants Bank | Lafayette | Alabama.
Southwest Bank of Alabama | McIntosh | Alabama.
Bank Trust | Mobile | Alabama.
Community Spirit Bank | Red Bay | Alabama.
Valley State Bank | Russellville | Alabama.
The Peoples Bank and Trust Company | Selma | Alabama.
Sweet Water State Bank | Sweet Water | Alabama.
First Federal of the South | Sylacauga | Alabama.
The First National Bank of Talladega | Talladega | Alabama.
First Citizens Bank | Talladega | Alabama.
First United Security Bank | Thomasville | Alabama.
Merchants & Farmers Bank | Tuscaloosa | Alabama.
City First Bank of D.C., N.A | Washington | D.C.
Citrus and Chemical Bank | Bartow | Florida.
Mackinac Savings Bank, FSB | Boynton Beach | Florida.
Olde Cypress Community Bank | Clewiston | Florida.
First Bank of Clewiston | Clewiston | Florida.
First National Bank of Crestview | Crestview | Florida.
Regent Bank | Davie | Florida.
Dunnellon State Bank | Dunnellon | Florida.
Landmark Bank, N.A | Fort Lauderdale | Florida.
Old Florida Bank | Fort Myers | Florida.
First City Bank of Florida | Fort Walton Beach | Florida.
Desjardins Bank, N.A | Hallandale | Florida.
Florida Community Bank | Immokalee | Florida.
The Bank of Inverness | Inverness | Florida.
First Guaranty Bank and Trust Company | Jacksonville | Florida.
Educational Community Credit Union | Jacksonville | Florida.
Monticello Bank | Jacksonville | Florida.
First Federal Savings Bank | Lake City | Florida.
Publix Employees Federal Credit Union | Lakeland | Florida.
Helm Bank | Miami | Florida.
Commercial Bank of Florida | Miami | Florida.
Eastern National Bank | Miami | Florida.
Pelican National Bank | Naples | Florida.
American National Bank | Oakland Park | Florida.
CNL Bank | Orlando | Florida.
First Community Bank of Palm Beach County | Pahokee | Florida.
Peoples First Community Bank | Panama City | Florida.
Tropical Financial Credit Union | Pembroke Pines | Florida.
Century Bank, a Federal Savings Bank | Sarasota | Florida.
Highlands Independent Bank | Sebring | Florida.
Eastern Financial Florida Credit Union | South Florida | Florida.
Raymond James Bank, FSB | St. Petersburg | Florida.
United Southern Bank | Umatilla | Florida.
Marine Bank and Trust | Vero Beach | Florida.
Sterling Bank, F.S.B | West Palm Beach | Florida.
Montgomery Bank & Trust | Ailey | Georgia.
Citizens Trust Bank | Atlanta | Georgia.
First Bank of Georgia | Augusta | Georgia.
United Community Bank | Blairsville | Georgia.
First National Bank of Georgia | Buchanan | Georgia.
Bank of Chickamauga | Chickamauga | Georgia.
Southeastern Bank | Darien | Georgia.
First National Bank of Coffee County | Douglas | Georgia.
The Peoples Bank | Eatonton | Georgia.
Pinnacle Bank | Elberton | Georgia.
Gainesville Bank and Trust | Gainesville | Georgia.
First Citizens Bank | Glennville | Georgia.
South Georgia Bank | Glennville | Georgia.
SunMark Community Bank | Hawkinsville | Georgia.
Community Trust Bank | Hiram | Georgia.
Northeast Georgia Bank | Lavonia | Georgia.
Peoples Bank | Lithonia | Georgia.
The Community Bank | Loganville | Georgia.
Rivoli Bank & Trust | Macon | Georgia.
Family Bank | Pelham | Georgia.
The Citizens National Bank of Quitman | Quitman | Georgia.
Wilcox County State Bank | Rochelle | Georgia.
Citizens First Bank | Rome | Georgia.
Farmers and Merchants Community Bank | Senoia | Georgia.
Quantum National Bank | Suwanee | Georgia.
Citizens Bank & Trust | Trenton | Georgia.
Farmers and Merchants Bank | Washington | Georgia.
First Piedmont Bank | Winder | Georgia.
Susquehanna Bank | Baltimore | Maryland.
State Employees Credit Union | Baltimore | Maryland.
Vigilant Federal Savings Bank | Baltimore | Maryland.
Ideal Federal Savings Bank | Baltimore | Maryland.
Bay-Vanguard Federal Savings Bank | Baltimore | Maryland.
Hull Federal Savings Bank | Baltimore | Maryland.
TMB Federal Credit Union | Cabin John | Maryland.
Cecil Federal Bank | Elkton | Maryland.
The Back and Middle River Federal | Essex | Maryland.
County National Bank | Glen Burnie | Maryland.
North Arundel Savings Bank | Pasadena | Maryland.
Provident State Bank of Preston | Preston | Maryland.
IR Federal Credit Union | Riverdale | Maryland.
Randolph Bank & Trust Company | Asheboro | North Carolina.
Mechanics and Farmers Bank | Durham | North Carolina.
Gateway Bank & Trust Company | Elizabeth City | North Carolina.
Macon Bank | Franklin | North Carolina.
First Gaston Bank of North Carolina | Gastonia | North Carolina.
Carolina Bank | Greensboro | North Carolina.
Hertford Savings Bank, SSB | Hertford | North Carolina.
The Little Bank | Kinston | North Carolina.
Lexington State Bank | Lexington | North Carolina.
Industrial Federal Savings Bank | Lexington | North Carolina.
First Savings and Loan Association | Mebane | North Carolina.
American Community Bank | Monroe | North Carolina.
Mount Gilead Savings and Loan Association | Mount Gilead | North Carolina.
State Employees' Credit Union | Raleigh | North Carolina.
Taylorsville Savings Bank, SSB | Taylorsville | North Carolina.
Anson Bank & Trust Company | Wadesboro | North Carolina.
Waccamaw Bank | Whiteville | North Carolina.
Cooperative Bank | Wilmington | North Carolina.
People's Community Bank of S.C | Aiken | South Carolina.
Home Federal Savings and Loan Association | Bamberg | South Carolina.
Florence National Bank | Florence | South Carolina.
Bank of Greeleyville | Greeleyville | South Carolina.
GrandSouth Bank | Greenville | South Carolina.
Countybank | Greenwood | South Carolina.
Greer State Bank | Greer | South Carolina.
First National Bank of South Carolina | Holly Hill | South Carolina.
Kingstree Federal Savings & Loan Association | Kingstree | South Carolina.
The Bank of Clarendon | Manning | South Carolina.
Southcoast Community Bank | Mt. Pleasant | South Carolina.
Anderson Brothers Bank | Mullins | South Carolina.
Pickens Savings & Loan Association, F.A | Pickens | South Carolina.
Bank of Travelers Rest | Travelers Rest | South Carolina.
Napus Federal Credit Union | Alexandria | Virginia.
The Blue Grass Valley Bank | Blue Grass | Virginia.
The Bank of Southside Virginia | Carson | Virginia.
Second Bank & Trust | Culpeper | Virginia.
Apple Federal Credit Union | Fairfax | Virginia.
Imperial Savings and Loan Association | Martinsville | Virginia.
Navy Federal Credit Union | Merrifield | Virginia.
Bank of the Commonwealth | Norfolk | Virginia.
Lee Bank and Trust Company | Pennington Gap | Virginia.
The Marathon Bank | Winchester | Virginia.
Federal Home Loan Bank of Cincinnati—District 5
Wilson & Muir Bank and Trust Company | Bardstown | Kentucky.
Farmers Bank & Trust Company | Bardstown | Kentucky.
Bank of Cadiz and Trust Company | Cadiz | Kentucky.
Bank of Columbia | Columbia | Kentucky.
The Harrison Deposit Bank and Trust Company | Cynthiana | Kentucky.
Kentucky National Bank | Elizabethtown | Kentucky.
The Peoples Bank of Fleming County | Flemingsburg | Kentucky.
Farmers Bank | Hardinsburg | Kentucky.
Hancock Bank and Trust Company | Hawesville | Kentucky.
Peoples Bank & Trust Company of Hazard | Hazard | Kentucky.
Heritage Bank | Hopkinsville | Kentucky.
Planters Bank, Inc | Hopkinsville | Kentucky.
Bank of Jamestown | Jamestown | Kentucky.
THE BANK—Oldham County, Inc | LaGrange | Kentucky.
Leitchfield Deposit Bank and Trust Company | Leitchfield | Kentucky.
Central Bank & Trust Company, Inc | Lexington | Kentucky.
L&N Federal Credit Union | Louisville | Kentucky.
Farmers B&T Company of Marion, Kentucky | Marion | Kentucky.
Monticello Banking Company | Monticello | Kentucky.
Pioneer Bank | Munfordville | Kentucky.
South Central Bank of Daviess County, Inc | Owensboro | Kentucky.
The Salt Lick Deposit Bank | Owingsville | Kentucky.
Blue Grass Federal Savings and Loan Association | Paris | Kentucky.
First Commonwealth Bank of Prestonsburg, Inc | Prestonsburg | Kentucky.
Fort Knox National Bank | Radcliff | Kentucky.
Belpre Savings Bank | Belpre | Ohio.
The Farmers Citizens Bank | Bucyrus | Ohio.
First FS&LA of Centerburg | Centerburg | Ohio.
Union Savings Bank | Cincinnati | Ohio.
The Mercantile Savings Bank | Cincinnati | Ohio.
Eagle Savings Bank | Cincinnati | Ohio.
The Winton Savings and Loan Company | Cincinnati | Ohio.
Conneaut Savings Bank | Conneaut | Ohio.
The Commercial Bank | Delphos | Ohio.
The Fort Jennings State Bank | Fort Jennings | Ohio.
The Hamler State Bank | Hamler | Ohio.
Morgan Bank | Hudson | Ohio.
The Fahey Banking Company of Marion | Marion | Ohio.
Citizens National Bank of McConnelsville | McConnelsville | Ohio.
The American Savings & Loan Association | Middletown | Ohio.
First National Bank of New Holland | New Holland | Ohio.
The Farmers State Bank | New Washington | Ohio.
First National Bank | Orrville | Ohio.
The Republic Banking Company | Republic | Ohio.
Chippewa Valley Bank | Rittman | Ohio.
Mutual Federal Savings Bank | Sidney | Ohio.
Central FS&LA of Wellsville | Wellsville | Ohio.
The Peoples Savings and Loan Company | West Liberty | Ohio.
The Union Banking Company | West Mansfield | Ohio.
Farmers State Bank | West Salem | Ohio.
First Community Bank | Whitehall | Ohio.
The Wilmington Savings Bank | Wilmington | Ohio.
The Wayne County National Bank of Wooster | Wooster | Ohio.
Brighton Bank | Brighton | Tennessee.
Cumberland Bank | Carthage | Tennessee.
Highland Federal Savings and Loan Association | Crossville | Tennessee.
Security Federal Bank | Elizabethton | Tennessee.
The Lauderdale County Bank | Halls | Tennessee.
Carroll Bank & Trust | Huntingdon | Tennessee.
The Coffee County Bank | Manchester | Tennessee.
First National Bank | Manchester | Tennessee.
The Home Bank of Tennessee | Maryville | Tennessee.
Memphis Area Teachers' Credit Union | Memphis | Tennessee.
Johnson County Bank | Mountain City | Tennessee.
Home Banking Company | Selmer | Tennessee.
Federal Home Loan Bank of Indianapolis—District 6
Bedford Federal Savings Bank | Bedford | Indiana.
FCN Bank | Rookville | Indiana.
Union Federal Savings & Loan Association | Crawfordsville | Indiana.
Decatur Bank and Trust Company | Decatur | Indiana.
United Fidelity Bank | Evansville | Indiana.
Fowler State Bank | Fowler | Indiana.
First Federal Savings Bank | Huntington | Indiana.
Campbell & Fetter Bank | Kendallville | Indiana.
United Community Bank | Lawrenceburg | Indiana.
River Valley Financial Bank | Madison | Indiana.
Fidelity FSB | Marion | Indiana.
MarkleBank | Markle | Indiana.
First State Bank of Middlebury | Middlebury | Indiana.
Citizens Financial Services, FSB | Munster | Indiana.
Community Bank of Southern Indiana | New Albany | Indiana.
Ameriana Bank and Trust, SB | New Castle | Indiana.
AmericanTrust FSB | Peru | Indiana.
Spencer County Bank | Santa Claus | Indiana.
Jackson County Bank | Seymour | Indiana.
Shelby County Bank | Shelbyville | Indiana.
Terre Haute Savings Bank | Terre Haute | Indiana.
Frances Slocum Bank & Trust Company | Wabash | Indiana.
Homestead Savings Bank | Albion | Michigan.
Ann Arbor Commerce Bank | Ann Arbor | Michigan.
Charlevoix State Bank | Charlevoix | Michigan.
Dearborn Federal Savings Bank | Dearborn | Michigan.
Financial Health Credit Union | East Lansing | Michigan.
Firstbank-Lakeview | Lakeview | Michigan.
Capitol National Bank | Lansing | Michigan.
State Employees Credit Union | Lansing | Michigan.
Independent Bank-South Michigan | Leslie | Michigan.
State Savings Bank | Manistique | Michigan.
Mason State Bank | Mason | Michigan.
Community Financial Credit Union | Plymouth | Michigan.
Team One Credit Union | Saginaw | Michigan.
Sidney State Bank | Sidney | Michigan.
Flagstar Bank | Troy | Michigan.
Standard Federal Bank National Association | Troy | Michigan.
Research Federal Credit Union | Warren | Michigan.
Firstbank-West Branch | West Branch | Michigan.
Federal Home Loan Bank of Chicago—District 7
Oxford Bank and Trust | Addison | Illinois.
Greater Chicago Bank | Bellwood | Illinois.
Heartland Bank & Trust Company | Bloomington | Illinois.
Peoples Bank of Kankakee County | Bourbonnais | Illinois.
Bridgeview Bank and Trust | Bridgeview | Illinois.
Southe Pointe Bank | Carbondale | Illinois.
United Community Bank | Chatham | Illinois.
First Savings Bank of Hegewisch | Chicago | Illinois.
Flower Bank, FSB | Chicago | Illinois.
Illinois Service FS&LA | Chicago | Illinois.
Foster Bank | Chicago | Illinois.
Burling Bank | Chicago | Illinois.
Austin Bank of Chicago | Chicago | Illinois.
Community Bank of Lawndale | Chicago | Illinois.
Amalgamated Bank of Chicago | Chicago | Illinois.
State Bank of Countryside | Countryside | Illinois.
First Savings Bank | Danville | Illinois.
Clover Leaf Bank | Edwardsville | Illinois.
Effingham State Bank | Effingham | Illinois.
Illinois Community Bank | Effingham | Illinois.
Washington Savings Bank | Effingham | Illinois.
EFS Bank | Elgin | Illinois.
First American Bank | Elk Grove Village | Illinois.
Forest Park National Bank & Trust Company | Forest Park | Illinois.
Harris Bank Frankfort | Frankfort | Illinois.
Union Savings Bank | Freeport | Illinois.
Central Bank Illinois | Geneseo | Illinois.
Bank of Gibson City | Gibson City | Illinois.
Northside Community Bank | Gurnee | Illinois.
Parkway Bank & Trust Company | Harwood Heights | Illinois.
North Central Bank | Hennepin | Illinois.
State Bank of Herscher | Herscher | Illinois.
The Farmers State Bank and Trust Company | Jacksonville | Illinois.
First FS&LA of Kewanee | Kewanee | Illinois.
Logan County Bank | Lincoln | Illinois.
Twin Oaks Savings Bank | Marseilles | Illinois.
Citizens Community Bank | Mascoutah | Illinois.
Middletown State Bank | Middleton | Illinois.
Blackhawk State Bank | Milan | Illinois.
First State Bank of Monticello | Monticello | Illinois.
BankPlus, FSB | Morton | Illinois.
George Washington Savings Bank | Oak Lawn | Illinois.
The First National Bank of Ogden | Ogden | Illinois.
The First National Bank of Okawville | Okawville | Illinois.
First National Bank in Olney | Olney | Illinois.
The Edgar County Bank & Trust Company | Paris | Illinois.
First FS&LA of Pekin | Pekin | Illinois.
Peru Federal Savings Bank | Peru | Illinois.
First National Bank in Pinckneyville | Pinckneyville | Illinois.
Mercantile Trust and Savings Bank | Quincy | Illinois.
State Street Bank & Trust Company | Quincy | Illinois.
North County Savings Bank | Red Bud | Illinois.
First Crawford State Bank | Robinson | Illinois.
American Bank and Trust Company | Rock Island | Illinois.
Stillman BancCorp, N.A | Rockford | Illinois.
First Savanna Savings Bank | Savanna | Illinois.
First State Bank of Shannon-Polo | Shannon | Illinois.
Security Bank | Springfield | Illinois.
UnionBank | Streator | Illinois.
The National Bank & Trust Company of Sycamore | Sycamore | Illinois.
Alpha Community Bank | Toluca | Illinois.
Villa Park Trust & Savings Bank | Villa Park | Illinois.
Citizens First State Bank of Walnut | Walnut | Illinois.
Hill Dodge Banking Company | Warsaw | Illinois.
State Bank of Waterloo | Waterloo | Illinois.
Cardunal Savings Bank, FSB | West Dundee | Illinois.
Citicorp Trust Bank, FSB | Baltimore | Maryland.
First American Credit Union | Beloit | Wisconsin.
Jackson County Bank | Black River Falls | Wisconsin.
State Bank of Cross Plains | Cross Plains | Wisconsin.
State Financial Bank, National Association | Hales Corners | Wisconsin.
AM Community Credit Union | Kenosha | Wisconsin.
Time Federal Savings Bank | Medford | Wisconsin.
M&I Marshall & Ilsley Bank | Milwaukee | Wisconsin.
Marine Bank | Pewaukee | Wisconsin.
Community Bank Spring Green and Plain | Spring Green | Wisconsin.
Tomahawk Community Bank SSB | Tomahawk | Wisconsin.
Federal Home Loan Bank of Des Moines—District 8
Peoples Trust & Savings Bank | Adel | Iowa.
Security State Bank | Anamosa | Iowa.
Farmers Trust and Savings Bank | Buffalo Center | Iowa.
Linn Area Credit Union | Cedar Rapids | Iowa.
United Security Savings Bank, F.S.B | Cedar Rapids | Iowa.
Bank Iowa | Larinda | Iowa.
Clear Lake Bank and Trust Company | Clear Lake | Iowa.
Gateway State Bank | Clinton | Iowa.
Cresco Union Savings Bank | Cresco | Iowa.
De Witt Bank & Trust Company | De Witt | Iowa.
Denver Savings Bank | Denver | Iowa.
Premier Bank | Dubuque | Iowa.
Liberty Trust & Savings Bank | Durant | Iowa.
Farmers Trust & Savings Bank | Earling | Iowa.
Hardin County Savings Bank | Eldora | Iowa.
Peoples State Bank | Elkader | Iowa.
NorthStar Bank | Estherville | Iowa.
Bank Plus | Estherville | Iowa.
Fort Madison Bank & Trust Company | Fort Madison | Iowa.
Security Savings Bank | Gowrie | Iowa.
Midstates Bank, NA | Harlan | Iowa.
Hills Bank and Trust Company | Hills | Iowa.
First State Bank | Ida Grove | Iowa.
Peoples Savings Bank | Indianola | Iowa.
Iowa Falls State Bank | Iowa Falls | Iowa.
Kerndt Brothers Savings Bank | Lansing | Iowa.
Libertyville Savings Bank | Libertyville | Iowa.
First State Bank | Lynnville | Iowa.
First National Bank | Manning | Iowa.
Valley Bank & Trust | Mapleton | Iowa.
Maquoketa State Bank | Maquoketa | Iowa.
Maynard Savings Bank | Maynard | Iowa.
Union State Bank | Monona | Iowa.
Citizens State Bank | Monticello | Iowa.
Mount Vernon Bank and Trust Company | Mount Vernon | Iowa.
Wayland State Bank | Mt. Pleasant | Iowa.
Community Bank | Muscatine | Iowa.
First National Bank Midwest | Oskaloosa | Iowa.
Horizon Federal Savings Bank | Oskaloosa | Iowa.
Pella State Bank | Pella | Iowa.
First State Bank | Riceville | Iowa.
Peoples Bank | Rock Valley | Iowa.
Union State Bank | Rockwell City | Iowa.
Rolfe State Bank | Rolfe | Iowa.
Security State Bank | Sheldon | Iowa.
First Community Bank | Sidney | Iowa.
St. Ansgar State Bank | St. Ansgar | Iowa.
Victor State Bank | Victor | Iowa.
Washington State Bank | Washington | Iowa.
Citizens State Bank | Waukon | Iowa.
West Iowa Bank | West Bend | Iowa.
Fidelity Bank | West Des Moines | Iowa.
State Savings Bank | West Des Moines | Iowa.
GuideOne Mutual Insurance Company | West Des Moines | Iowa.
Wilton Savings Bank | Wilton | Iowa.
White Rock Bank | Cannon Falls | Minnesota.
Currie State Bank | Currie | Minnesota.
State Bank of Danvers | Danvers | Minnesota.
State Bank of Delano | Delano | Minnesota.
Voyager Bank | Eden Prairie | Minnesota.
Inter Savings Bank, FSB | Edina | Minnesota.
Stearns Bank Evansville National Association | Evansville | Minnesota
1st United Bank | Faribault | Minnesota.
Border State Bank of Greenbush | Greenbush | Minnesota.
Citizens State Bank of Hayfield | Hayfield | Minnesota.
Farmers State Bank of Hoffman | Hoffman | Minnesota.
Fortress Bank Minnesota | Houston | Minnesota.
Security State Bank of Howard Lake | Howard Lake | Minnesota.
Key Community Bank | Inver Grove Heights | Minnesota.
First Security Bank—Lake Benton | Lake Benton | Minnesota.
Lake City Federal Bank | Lake City | Minnesota.
Lake Area Bank | Lindstrom | Minnesota.
First National Bank of Moose Lake | Moose Lake | Minnesota.
United Prairie Bank | Mountain Lake | Minnesota.
American Bank of the North | Nashwauk | Minnesota.
State Bank of New Prague | New Prague | Minnesota.
ProGrowth Bank | Nicollet | Minnesota.
Midwest Bank NA | Parkers Prairie | Minnesota.
The First National Bank of Pine City | Pine City | Minnesota.
Premier Bank Rochester | Rochester | Minnesota.
Sterling State Bank | Rochester | Minnesota.
Citizens State Bank of Roseau | Roseau | Minnesota.
Bremer Bank, National Association | St. Cloud | Minnesota.
St. James Federal Savings and Loan Association | St. James | Minnesota.
The Nicollet County Bank of St. Peter | St. Peter | Minnesota.
Farmers State Bank of Trimont | Trimont | Minnesota.
First National Bank of Walker | Walker | Minnesota.
Roundbank | Waseca | Minnesota.
Community Bank Winsted | Winsted | Minnesota.
First Independent Bank of Wood Lake | Wood Lake | Minnesota.
Citizens Bank of Amsterdam | Amsterdam | Missouri.
Community State Bank of Missouri | Bowling Green | Missouri.
Pony Express Bank | Braymer | Missouri.
CSB Bank | Claycomo | Missouri.
Citizens Union State Bank & Trust | Clinton | Missouri.
First National Bank & Trust Company | Columbia | Missouri.
Meramec Valley Bank | Ellisville | Missouri.
New Era Bank | Fredericktown | Missouri.
Bank Star One | Fulton | Missouri.
The Central Trust Bank | Jefferson City | Missouri.
Macon-Atlanta State Bank | Macon | Missouri.
Regional Missouri Bank | Marceline | Missouri.
Nodaway Valley Bank | Maryville | Missouri.
Independent Farmers Bank | Maysville | Missouri.
Heritage State Bank | Nevada | Missouri.
Southwest Community Bank | Ozark | Missouri.
Palmyra State Bank | Palmyra | Missouri.
Farley State Bank | Parkville | Missouri.
Perry State Bank | Perry | Missouri.
Citizens Community Bank | Pilot Grove | Missouri.
Pulaski Bank | Saint Louis | Missouri.
Bank of Salem | Salem | Missouri.
The Merchants & Farmers Bank of Salisbury | Salisbury | Missouri.
Community Bank of Pettis County | Sedalia | Missouri.
Empire Bank | Springfield | Missouri.
The Signature Bank | Springfield | Missouri.
Liberty Bank | Springfield | Missouri.
Bank Star of the Bootheel | Steele | Missouri.
The Tipton Latham Bank, N.A | Tipton | Missouri.
Bank of Washington | Washington | Missouri.
West Plains Savings & Loan Association | West Plains | Missouri.
The First and Farmers Bank | Portland | North Dakota.
First International Bank & Trust | Watford City | North Dakota.
Federal Home Loan Bank of Dallas—District 9
SOUTHBank, A Federal Savings Bank | Huntsville | Alabama.
Community Bank | Cabot | Arkansas.
First Security Bank | Clarksville | Arkansas.
Bank of Eureka Springs | Eureka Springs | Arkansas.
First National Bank of Fort Smith | Fort Smith | Arkansas.
Bank of Lake Village | Lake Village | Arkansas.
Bank of the Ozarks | Little Rock | Arkansas.
First State Bank | Lonoke | Arkansas.
Arvest Bank | Lowell | Arkansas.
Union Bank of Mena | Mena | Arkansas.
First National Bank | Mount Ida | Arkansas.
First State Bank | Parkin | Arkansas.
First Arkansas Valley Bank | Russellville | Arkansas.
Bank of Salem | Salem | Arkansas.
First Security Bank | Searcy | Arkansas.
Simmons First Bank of Searcy | Searcy | Arkansas.
Fidelity Bank | Baton Rouge | Louisiana.
State Investors Bank | Metairie | Louisiana.
Globe Homestead FSA | Metairie | Louisiana.
Home Federal Savings and Loan Association | Shreveport | Louisiana.
Citizens B&T Company of Vivian, LA, Inc | Vivian | Louisiana.
First Federal Bank for Savings | Columbia | Mississippi.
First Delta Federal Credit Union | Marks | Mississippi.
Pioneer Bank | Roswell | Mew Mexico.
First National Bank of Santa Fe | Santa Fe | Mew Mexico.
International Bank of Commerce | Brownsville | Texas.
First American Bank, SSB | Bryan | Texas.
American Bank, N.A | Corpus Christi | Texas.
State Bank and Trust Company, Dallas | Dallas | Texas.
Guaranty Bank | Dallas | Texas.
The Bank & Trust, S.S.B | Del Rio | Texas.
Bank of the West | El Paso | Texas.
Government Employees Credit Union | El Paso | Texas.
New Era Life Insurance Company | Houston | Texas.
OmniBank, N.A | Houston | Texas.
Southwest Bank of Texas, N.A | Houston | Texas.
The First National Bank of Hughes Springs | Hughes Springs | Texas.
International Bank of Commerce | Laredo | Texas.
Liberty Bank | North Richland Hills | Texas.
Interstate Bank, ssb | Perryton | Texas.
Cypress Bank FSB | Pittsburg | Texas.
Benchmark Bank | Plano | Texas.
Community Credit Union | Plano | Texas.
First National Bank in Quanah | Quanah | Texas.
Peoples State Bank | Rocksprings | Texas.
Crockett National Bank | San Angelo | Texas.
Frost National Bank | San Antonio | Texas.
State Bank & Trust of Seguin, TX | Seguin | Texas.
Citizens Bank | Slaton | Texas.
Texas National Bank | Tomball | Texas.
Southside Bank | Tyler | Texas.
First Victoria National Bank | Victoria | Texas.
TexasBank | Weatherford | Texas.
International Bank of Commerce | Zapata | Texas.
Federal Home Loan Bank of Topeka—District 10
Gateway Credit Union | Aurora | Colorado.
FirstBank of Avon | Avon | Colorado.
Canon National Bank | Canon City | Colorado.
Peoples National Bank Colorado | Colorado Springs | Colorado.
Ent Federal Credit Union | Colorado Springs | Colorado.
Citizens State Bank of Cortez | Cortez | Colorado.
Guaranty Bank and Trust Company | Denver | Colorado.
The State Bank | Rocky Ford | Colorado.
FirstBank of Vail | Vail | Colorado.
Community State Bank | Coffeyville | Kansas.
Conway Bank, N.A | Conway Springs | Kansas.
The City State Bank | Fort Scott | Kansas.
The Liberty Savings Association, FSA | Fort Scott | Kansas.
First National Bank | Independence | Kansas.
First Federal S&L Independence | Independence | Kansas.
MidAmerican Bank & Trust Company, NA | Leavenworth | Kansas.
Kansas State Bank of Manhattan | Manhattan | Kansas.
Stockgrowers State Bank | Maple Hill | Kansas.
Citizens State Bank of Marysville | Marysville | Kansas.
First Bank of Medicine Lodge | Medicine Lodge | Kansas.
Montezuma State Bank | Montezuma | Kansas.
Kansas State Bank | Overbrook | Kansas.
1st Financial Bank | Overland Park | Kansas.
First National Bank in Pratt, Kansas | Pratt | Kansas.
Rose Hill Bank | Rose Hill | Kansas.
The Bennington State Bank | Salina | Kansas.
Security State Bank | Scott City | Kansas.
First National Bank of Scott City | Scott City | Kansas.
Centera Bank | Sublette | Kansas.
First FS&LA of WaKeeney | WaKeeney | Kansas.
Kaw Valley State Bank | Wamego | Kansas.
First National Bank of Wamego | Wamego | Kansas.
Fidelity Bank | Wichita | Kansas.
First National Bank and Trust of Fullerton | Fullerton | Nebraska.
Geneva State Bank | Geneva | Nebraska.
Equitable Federal Savings Bank of Grand Island | Grand Island | Nebraska.
Home FS&LA of Grand Island, Nebraska | Grand Island | Nebraska.
Harvard State Bank | Harvard | Nebraska.
Hershey State Bank | Hershey | Nebraska.
Nebraska National Bank | Kearney | Nebraska.
Platte Valley State Bank and Trust Company | Kearney | Nebraska.
Bank of Keystone | Keystone | Nebraska.
Home FS&LA of Nebraska | Lexington | Nebraska.
Lincoln Federal Savings Bank of Nebraska | Lincoln | Nebraska.
Security Federal Savings | Lincoln | Nebraska.
Sherman County Bank | Loup City | Nebraska.
First National Bank Northeast | Lyons | Nebraska.
The Bank of Madison | Madison | Nebraska.
Madison County Bank | Madison | Nebraska.
Bank of Norfolk | Norfolk | Nebraska.
Nebraskaland National Bank | North Platte | Nebraska.
First National Bank North Platte | North Platte | Nebraska.
Pender State Bank | Pender | Nebraska.
Midwest Bank, N.A | Pierce | Nebraska.
Town & Country Bank | Ravenna | Nebraska.
Sidney Federal Savings & Loan Association | Sidney | Nebraska.
Dakota County State Bank | South Sioux City | Nebraska.
Springfield State Bank | Springfield | Nebraska.
Bank of St. Edward | St. Edward | Nebraska.
Tecumseh Building and Loan Association | Tecumseh | Nebraska.
First National Bank | Utica | Nebraska.
Farmers State Bank | Wallace | Nebraska.
Saline State Bank | Wilber | Nebraska.
Citizens National Bank of Wisner | Wisner | Nebraska.
66 Federal Credit Union | Bartlesville | Oklahoma.
Bank of Cordell | Cordell | Oklahoma.
Bank of Hydro | Hydro | Oklahoma.
Armstrong Bank | Muskogee | Oklahoma.
Citizens State Bank | Okemah | Oklahoma.
First Enterprise Bank | Oklahoma City | Oklahoma.
Union Bank, N.A | Oklahoma City | Oklahoma.
The First National Bank of Texhoma | Texhoma | Oklahoma.
Grand Bank | Tulsa | Oklahoma.
Community Bank & Trust Company | Tulsa | Oklahoma.
Energy One Federal Credit Union | Tulsa | Oklahoma.
First Bank & Trust | Wagoner | Oklahoma.
Canadian State Bank | Yukon | Oklahoma.
Federal Home Loan Bank of San Francisco—District 11
BankUSA, FSB | Phoenix | Arizona.
Fremont Investment & Loan | Anaheim | California.
Vista Federal Credit Union | Burbank | California.
La Jolla Bank, FSB | Rancho Santa Fe | California.
Eastern International Bank | Los Angeles | California.
Chevron Texaco Federal Credit Union | Oakland | California.
United Labor Bank, FSB | Oakland | California.
Wescom Credit Union | Pasadena | California.
California Bank and Trust | San Diego | California.
San Diego County Credit Union | San Diego | California.
United Commercial Bank | San Francisco | California.
Citibank (West), FSB | San Francisco | California.
Luther Burbank Savings | Santa Rosa | California.
Community Banks of Tracy | Tracy | California.
Yolo Community Bank | Woodland | California.
Redding Bank of Commerce | Yuba City | California.
Federal Home Loan Bank of Seattle—District 12
First Bank | Ketchikan | Alaska.
Territorial Savings Bank | Honolulu | Hawaii.
Central Pacific Bank | Honolulu | Hawaii.
Farmers and Merchants State Bank | Boise | Idaho.
Home Federal Bank | Nampa | Idaho.
American Bank of Montana | Bozeman | Montana.
Valley Bank of Helena | Helena | Montana.
Chetco Federal Credit Union | Brookings | Oregon.
Northwest Community Credit Union | Eugene | Oregon.
LibertyBank | Eugene | Oregon.
West Coast Bank | Lake Oswego | Oregon.
PremierWest Bank | Medford | Oregon.
McKay Dee Credit Union | Ogden | Utah.
Centennial Bank | Ogden | Utah.
Mountain America Credit Union | Salt Lake City | Utah.
American Investment Bank, N.A | Salt Lake City | Utah.
Zions First National Bank | Salt Lake City | Utah.
Cowlitz Bank | Bellevue | Washington.
Kitsap Community Federal Credit Union | Bremerton | Washington.
State Bank of Concrete | Concrete | Washington.
Washington State Bank, N.A | Federal Way | Washington.
Venture Bank | Lacey | Washington.
Sound Banking Company | Lakewood | Washington.
Spokane Teachers Credit Union | Liberty Lake | Washington.
Heritage Savings Bank | Olympia | Washington.
First Savings Bank of Renton | Renton | Washington.
Viking Community Bank | Seattle | Washington.
The Wheatland Bank | Spokane | Washington.
TAPCO Credit Union | Tacoma | Washington.
Banner Bank | Walla Walla | Washington.
Security First Bank | Cheyenne | Wyoming.
First National Bank & Trust | Powell | Wyoming.
Cowboy State Bank | Ranchester | Wyoming.
First State Bank of Thermopolis | Thermopolis | Wyoming.

II. Public Comments

To encourage the submission of public comments on the community support performance of Bank members, on or before April 28, 2005, each Bank will notify its Advisory Council and nonprofit housing developers, community groups, and other interested parties in its district of the members selected for community support review in the 2004-05 fifth quarter review cycle. 12 CFR 944.2(b)(2)(ii). In reviewing a member for community support compliance, the Finance Board will consider any public comments it has received concerning the member. 12 CFR 944.2(d). To ensure consideration by the Finance Board, comments concerning the community support performance of members selected for the 2004-05 fifth quarter review cycle must be delivered to the Finance Board on or before the May 26, 2005 deadline for submission of Community Support Statements.

Dated: April 18, 2005.
Mark J. Tenhundfeld,
General Counsel.

[FR Doc. 05-8037 Filed 4-21-05; 8:45 am]

BILLING CODE 6725-01-P